DEPARTMENT OF THE INTERIOR

Bureau of Land Management

[LLNVW0000.L5110000.GN0000.LVEMF1402860.14X; MO# 4500065213]

Notice of Intent To Prepare an Environmental Impact Statement for the Proposed Coeur Rochester Mine Plan of Operations Amendment 10, Pershing County, NV

AGENCY: Bureau of Land Management, Interior.

ACTION: Notice of intent.

SUMMARY: In compliance with the National Environmental Policy Act of 1969, as amended (NEPA), and the Federal Land Policy and Management Act of 1976, as amended, the Bureau of Land Management (BLM) Humboldt River Field Office, Winnemucca, Nevada, intends to prepare an Environmental Impact Statement (EIS) and by this notice is announcing the beginning of the scoping process to solicit public comments and identify issues.

DATES: This notice initiates the public scoping process for the EIS. Comments on issues may be submitted in writing until July 28, 2014 The date(s) and location(s) of any scoping meetings will be announced at least 15 days in advance through local media, newspapers and the BLM Web site at: http://www.blm.gov/nv/st/en/fo/wfo.html. In order to be included in the Draft EIS, all comments must be received prior to the close of the 30-day scoping period or 15 days after the last public meeting, whichever is later. We will provide additional opportunities for public participation upon publication of the Draft EIS.

ADDRESSES: You may submit comments related to the Coeur Rochester Mine Plan of Operations Amendment 10 by any of the following methods:

• Web site: http://www.blm.gov/nv/st/en/fo/wfo.html.

• Email: wfoweb@blm.gov. Include Coeur Rochester Mine EIS Comments in the subject line.

• Fax: (775) 623-1503.

• Mail: BLM Winnemucca District, Humboldt River Field Office 5100 E. Winnemucca Blvd., Winnemucca, NV 89445.

Documents pertinent to this proposal may be examined at the Humboldt River Field Office.

FOR FURTHER INFORMATION CONTACT: Kathleen Rehberg, Project Lead, telephone 775-623-1500; address BLM Winnemucca District, Humboldt River Field Office, 5100 E. Winnemucca Blvd., Winnemucca, NV 89445; email krehberg@blm.gov. Contact Ms. Rehberg to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Coeur Rochester, Inc., has requested an expansion of their operations at the existing Coeur Rochester Mine, which is located approximately 18 miles northeast of Lovelock, Nevada, in the Humboldt Range, Pershing County. The mine is currently authorized up to a disturbance of 1,930 acres (approximately 189 acres of private land and 1,741 acres of public land), which was permitted under a series of Environmental Assessments (EA N26-86-002P, February 1986; EA NV-020-99-12, February 1999; NV-020-01-06, December 2000; EA NV-020-01-06, February 2002; EA NV-020-03-13, August 2003; DOI-BLM-NV-W010-2010-0010-EA, October 2010). Proposed changes to their operations presented under this Plan of Operations modification would encompass 531 acres, of which 157 acres are already disturbed. A total of 348 acres of new disturbance is proposed on public land, as well as 26 acres on private land. All proposed disturbance would be within the existing approved Plan boundary and includes the following: an approximately 67-acre expansion to the existing Stage IV Heap Leach Pad (HLP); an increase of the allowable maximum Stage IV HLP stacking height from 330 feet to 400 feet; construction of a 124-acre Stage V HLP with associated ponds and tank; relocation of a portion of the American Canyon public access road and establishment of an associated Right-of-Way (ROW); relocation of a portion of the paved Rochester main access road ROW; realignment of the Stage IV haul road and construction of secondary access roads; relocation of existing power lines consistent with the proposed ROW realignments and HLP construction; relocation of the electrical building, core shed, and production well PW-2a; excavation of new borrow areas and construction of one new growth medium stockpile; installation of the Stage IV HLP conveyor system, associated load out points, ore stockpiles, maintenance road, and utility corridor, including process solutions and fresh water supply pipelines; and changes to closure activities for existing facilities including altering the open pit safety berm sizes; HLP interim fluid management plans; HLP cover designs; the installation of evaporation cells (E-Cells); and long-term draindown management.

The purpose of the public scoping process is to determine relevant issues that will influence the scope of the environmental analysis, including alternatives, and guide the process for developing the EIS. At present, the BLM has identified the following preliminary issues: (a) The potential to create acid rock drainage or heavy metals from mining activities, and ensuring that there is no degradation of waters of the state or undue or unnecessary degradation of public lands; (b) Potential impacts to wildlife habitat; and (c) Potential impacts to cultural sites.

The BLM will analyze a combination of proposed environmental measures and possible mitigation to eliminate or minimize any impacts associated with the proposed action. This could include the potential of identifying opportunities to apply mitigation hierarchy strategies for on-site, regional, and compensatory mitigation appropriate to the size of the proposal and management actions to achieve resource objectives.

The BLM will use NEPA public participation requirements to assist the agency in satisfying the public involvement requirements under Section 106 of the National Historic Preservation Act (NHPA) (16 U.S.C. 470(f)) pursuant to 36 CFR 800.2(d)(3). The information about historic and cultural resources within the area potentially affected by the proposed Coeur Rochester Mine Plan of Operations Amendment 10 will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and stakeholders that may be interested in or affected by the proposed Coeur Rochester Mine Plan of Operations Amendment 10 that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Victor W. Lozano,
Field Manager, Humboldt River Field Office.

[FR Doc. 2014-15163 Filed 6-26-14; 8:45 am]

BILLING CODE 4310-HC-P